DEPARTMENT OF TRANSPORTATION

Federal Railroad Administration

[Docket Number FRA-2021-0044]

Petition for Waiver of Compliance

Under part 211 of title 49 Code of Federal Regulations (CFR), this document provides the public notice that on March 22, 2021, Norfolk Southern Corporation (NS) petitioned the Federal Railroad Administration (FRA) for a waiver of compliance from certain provisions of the Federal railroad safety regulations contained at 49 CFR part 213. FRA assigned the petition Docket Number FRA-2021-0044.

Specifically, NS is requesting relief from 49 CFR 213.233(b)(3), and (c), which require track inspections to be conducted visually by railroad track inspectors at certain frequencies based on class of track. NS is petitioning to replace 49 CFR 213.233 visual track inspection requirements with a combination of automated and visual inspections. Proposed automated inspections would be performed by Track Geometry Measurement Systems three times per month, and visual inspections would be performed at least twice per month, for each track segment.

In support of its petition, NS references data and analysis from its ongoing Track Inspection Test Program, Docket Number FRA-2019-0099. Through the three phases, NS notes that track geometry defects have a continued downward trend, indicating overall improvement in track quality. NS states that the relief would positively impact safety by increasing defect identification and remediation, reduce employee exposure to potential hazards, and facilitate maintenance program planning.

A copy of the petition, as well as any written communications concerning the petition, if any, are available for review online at www.regulations.gov.

Interested parties are invited to participate in these proceedings by submitting written views, data, or comments. FRA does not anticipate scheduling a public hearing for these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by June 28, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-10051 Filed 5-11-21; 8:45 am]

BILLING CODE 4910-06-P